ENVIRONMENTAL PROTECTION AGENCY

40 CFR Part 63

[EPA-HQ-OAR-2004-0083; FRL-8774-1]

RIN 2060-AM71

National Emission Standards for Hazardous Air Pollutants for Area Sources: Electric Arc Furnace Steelmaking Facilities

AGENCY: Environmental Protection Agency (EPA).

ACTION: Withdrawal of direct final rule.

SUMMARY: On December 1, 2008, EPA issued direct final amendments to the national emission standards for hazardous air pollutants (NESHAP) for Electric Arc Furnace Steelmaking Facilities. These amendments were issued as a direct final rule, along with a parallel proposal to be used as the basis for final action in the event EPA received any adverse comments on the direct final amendments. Because an adverse comment was received, EPA is withdrawing the direct final rule.

DATES: As of February 26, 2009, EPA withdraws the direct final rule published at 73 FR 72727 on December 1, 2008.

ADDRESSES: EPA has established a docket for this action under Docket ID No. EPA-HQ-OAR-2004-0083. All documents in the docket are listed in the Federal Docket Management System index at http://www.regulations.gov. Although listed in the index, some information is not publicly available, e.g., confidential business information or other information whose disclosure is restricted by statute. Certain other material, such as copyrighted material, is not placed on the Internet and will be publicly available only in hard copy form. Publicly available docket materials are available either electronically through http://www.regulations.gov or in hard copy at the National Emission Standards for Hazardous Air Pollutants (NESHAP) for Electric Arc Furnace Steelmaking Facilities Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: Mr. Phil Mulrine, Sector Policies and Programs Division, Office of Air Quality Planning and Standards (D243-02), Environmental Protection Agency, Research Triangle Park, North Carolina 27711, telephone number: (919) 541-5289; fax number: (919) 541-3207; e-mail address: mulrine.phil@epa.gov.

SUPPLEMENTARY INFORMATION: On December 1, 2008, we published a direct final rule (73 FR 72727) and a parallel proposal (73 FR 72756) amending the NESHAP for Electric Arc Furnace Steelmaking Facilities (40 CFR part 63, subpart YYYYY). These amendments were issued as a direct final rule, along with a parallel proposal to be used as the basis for final action in the event EPA received any adverse comments on the direct final amendments. We stated in that direct final rule that if we received adverse comment by December 31, 2008, we would publish a timely withdrawal in the Federal Register. Because an adverse comment was received, EPA is withdrawing the direct final rule published at 73 FR 72727 on December 1, 2008 as of February 26, 2009. We will address the adverse comment in a subsequent final action based on the parallel proposal published on December 1, 2008 (73 FR 72756). As stated in the parallel proposal, we will not institute a second comment period on this action.

List of Subjects in 40 CFR Part 63

Environmental protection, Air pollution control, Hazardous substances, Reporting and recordkeeping requirements.

Dated: February 11, 2009.
Elizabeth Craig,
Acting Assistant Administrator, Office of Air and Radiation.

Accordingly, the amendments to the rule published in the Federal Register on December 1, 2008 (73 FR 72727) are withdrawn as of February 26, 2009.

[FR Doc. E9-4144 Filed 2-25-09; 8:45 am]

BILLING CODE 6560-50-P